DEPARTMENT OF AGRICULTURE

Animal and Plant Health Inspection Service

7 CFR Part 301

Domestic Quarantine Notices

CFR Correction

In Title 7 of the Code of Federal Regulations, Parts 300 to 399, revised as of January 1, 2015, on page 129, in § 301.86-5, in paragraph (b), remove the term “potato” wherever it appears and add “pale” in its place.

[FR Doc. 2015-32214 Filed 12-22-15; 8:45 am]

BILLING CODE 1505-01-D